DEPARTMENT OF HOUSING AND URBAN DEVELOPMENT

[Docket No. FR-4730-N-14]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory to excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with the applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Julie Jones-Conte, Headquarters, Department of the Army, Office of the Assistant Chief of Staff for Installation Management, Program Integration Office, Attn: DAIM-MD, Room 1E677, 600 Army Pentagon, Washington, DC 20310-0600; (703) 692-9223; DOT: Mr. Rugene Spruill, Principal, Space Management, SVC-140, Transportation Administrative Service Center, Department of Transportation, 400 7th Street, SW, Room 2310, Washington, DC 20590; (202) 366-4246; GSA: Mr. Brian K. Polly, Assistant Commissioner, General Services Administration, Office of Property Disposal, 18th and F Streets, NW, Washington, DC 20405; (202) 501-0052; Navy: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: March 28, 2002.
John D. Garrity,
Director, Office of Special Needs Assistance Programs.

Title V, Federal Surplus Property Program Federal Register Report for 4/5/02

Suitable/Available Properties

Buildings (by State)

Tennessee

Courthouse/Fed. Bldg.

101 W. Summer Street

Greeneville Co: Greene TN 37743-

Landholding Agency: GSA

Property Number: 54200210027

Status: Excess

Comment: 17,241 sq. ft. office bldg. w/25 parking spaces, presence of asbestos, subject to Historic Preservation Covenants

GSA Number: 4-G-TN-0652

Land (by State)

New Jersey

0.27 acres

209 Bay Road

Ocean City Co: NJ 08226-

Landholding Agency: GSA

Property Number: 54200210023

Status: Excess

Comment: Environmental conditions exist which impact occupancy of property, endangered species within one mile

GSA Number: 1-U-NJ-645

Unsuitable Properties

Buildings (by State)

California

Bldg. 799

Naval Air Station

North Island Co: CA

Landholding Agency: Navy

Property Number: 77200210124

Status: Excess

Reason: Extensive deterioration

Kentucky

7 Bldgs.

Fort Campbell

Ft. Campbell Co: Christian KY 42223-

Location: 02715, 02717, 02719, 02721, 02723, 02725, 02727

Landholding Agency: Army

Property Number: 21200210079

Status: Unutilized

Reason: Extensive deterioration

Bldgs. 02736, 05326

Fort Campbell

Ft. Campbell Co: Christian KY 42223-

Landholding Agency: Army

Property Number: 21200210080

Status: Unutilized

Reason: Extensive deterioration

Bldg. 02738

Fort Campbell

Ft. Campbell Co: Christian KY 42223-

Landholding Agency: Army

Property Number: 21200210081

Status: Unutilized

Reason: Extensive deterioration

New York

Bldg. OK1

Coast Guard Station

Alexandria Bay Co. Jefferson NY 13640-

Landholding Agency: DOT

Property Number: 87200210017

Status: Unutilized

Reason: Secured Area

Bldg. OK2

Coast Guard Station

Alexandria Bay Co. Jefferson NY 13640-

Landholding Agency: DOT

Property Number: 87200210018

Status: Unutilized

Reason: Secured Area

Bldg. OK3

Coast Guard Station

Alexandria Bay Co. Jefferson NY 13640-

Landholding Agency: DOT

Property Number: 87200210019

Status: Unutilized

Reason: Secured Area

Bldg. OG1

Coast Guard Station

Alexandria Bay Co. Jefferson NY 13640-

Landholding Agency: DOT

Property Number: 87200210020

Status: Unutilized

Reason: Secured Area

Bldg. OG2

Coast Guard Station

Alexandria Bay Co. Jefferson NY 13640-

Landholding Agency: DOT

Property Number: 87200210021

Status: Unutilized

Reason: Secured Area

Virginia

Bldg. WB-61

Naval Station

Norfolk Co: VA 23511-

Landholding Agency: Navy

Property Number: 77200210125

Status: Unutilized

Reason: Extensive deterioration

Bldg. WB-63

Naval Station

Norfolk Co: VA 23511-

Landholding Agency: Navy

Property Number: 77200210126

Status: Unutilized

Reason: Extensive deterioration

Bldg. WB-64

Naval Station

Norfolk Co: VA 23511-

Landholding Agency: Navy

Property Number: 77200210127

Status: Unutilized

Reason: Extensive deterioration

Bldg. WB-66

Naval Station

Norfolk Co: VA 23511-

Landholding Agency: Navy

Property Number: 77200210128

Status: Unutilized

Reason: Extensive deterioration

Bldg. WB-67

Naval Station

Norfolk Co: VA 23511-

Landholding Agency: Navy

Property Number: 77200210129

Status: Unutilized

Reason: Extensive deterioration

Land (by State)

Puerto Rico

Parcel 2E

Naval Security Group

Sabana Seca Co: Toa Baja PR

Landholding Agency: GSA

Property Number: 54200210024

Status: Excess

Reason: Within 2000 ft. of flammable or explosive material

GSA Number: 1-N-PR-496

Parcel 2R

Naval Security Group

Sabana Seca Co: Toa Baja PR

Landholding Agency: GSA

Property Number: 54200210025

Status: Excess

Reason: Within 2000 ft. of flammable or explosive material

GSA Number: 1-N-PR-494

Parcel 2W

Naval Security Group

Sabana Seca Co: Toa Baja PR

Landholding Agency: GSA

Property Number: 54200210026

Status: Excess

Reason: Within 2000 ft. of flammable or explosive material

GSA Number: 1-N-PR-495

[FR Doc. 02-7950 Filed 4-4-02; 8:45 am]

BILLING CODE 4210-29-M